DEPARTMENT OF HEALTH AND HUMAN SERVICES

Administration for Children and Families

Proposed Information collection Activity; Comment Request

Proposed Projects

Title: Application and Program Reporting Requirements for children's Justice Act Grants.

OMB No.: 0980-0196 Expired (5/31/01).

Description: The Program Instruction, prepared in response to the Children's Justice Act and authorized by Title I of the Child Abuse Prevention and Treatment Act (CAPTA) (as amended) and in the process of reauthorization, provides direction to States and Territories to accomplish the purposes of assisting States in developing, establishing, and operating programs designed to improve: (1) The handling of child abuse and neglect cases, particularly child sexual abuse and exploitation, in a manner which limits additional trauma to the child victim; (2) the handling of cases of suspected child abuse or neglect related fatalities; and (3) the investigation and prosecution of cases of child abuse and neglect, particularly child sexual abuse and exploitation.

This Program Instruction contains information collection requirements that are found in P.L. 104-235 at Sections 107(b), 107(d), and pursuant to receiving a grant award. The information being collected is required by statute to be submitted pursuant to receiving a grant award. The information submitted will be used by the agency to ensure compliance with the statute; to monitor, evaluate, and measure grantee achievements in addressing the investigation and prosecution of child abuse and neglect; and to report to Congress.

Respondents: State Governments.

Annual Burden Estimates:

Instrument | Number of respondents | Number of responses per respondent | Average burden hours per response | Total burden hours
Application | 52 | 1 | 40 | 2080
Annual Performance Report | 52 | 1 | 20 | 1040
Estimated Total Annual Burden Hours |  |  |  | 3,120

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Information Services, 370 L'Enfant Promenade, SW, Washington, DC 20447, Attn: ACF Reports Clearance Officer. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: October 3, 2001.
Bob Sargis,
Reports Clearance Officer.

[FR Doc. 01-25420 Filed 10-9-01; 8:45 am]

BILLING CODE 4184-01-M